DEPARTMENT OF AGRICULTURE

Office of the Secretary

7 CFR Part 2

Revision of Delegations of Authority

Correction

In rule document 03-12142 beginning on page 27431 in the issue of Tuesday, May 20, 2003 make the following corrections:

§ 2.24 [Corrected]

1. On page 27439, in the second column, in §2.24, in amendatory instruction 12.c., in the second line, “2003” should read “2000”.

§ 2.93 [Corrected]

2. On page 27447, in the third column, in §2.93, in amendatory instruction 39.a., in the third line, after “(a)(12)” add “(a)(16), and”.

[FR Doc. C3-12142 Filed 6-11-03; 8:45 am]

BILLING CODE 1505-01-D